DEPARTMENT OF TRANSPORTATION

Federal Aviation Administration

14 CFR Part 39

[Docket No. FAA-2016-5039; Directorate Identifier 2013-NM-148-AD; Amendment 39-18659; AD 2016-19-10]

RIN 2120-AA64

Airworthiness Directives; Airbus Airplanes

AGENCY: Federal Aviation Administration (FAA), Department of Transportation (DOT).

ACTION: Final rule.

SUMMARY: We are superseding Airworthiness Directive (AD) 2000-10-18 for certain Airbus Model A300 series airplanes; Model A300 B4-600, B4-600R, F4-600R series airplanes, and Model A300 C4-605R Variant F airplanes (collectively called Model A300-600 series airplanes); and Model A310 series airplanes. AD 2000-10-18 required repetitive inspections to detect cracks in the lower spar of the engine pylons between ribs 6 and 7, and repair if necessary. This new AD reduces the compliance times for the initial inspection and the repetitive intervals. This AD was prompted by the determination that the compliance times for the initial inspection and the repetitive intervals must be reduced to allow timely detection of cracks in the engine pylon's lower spar between ribs 6 and 7. We are issuing this AD to detect and correct fatigue cracking, which could result in reduced structural integrity of the engine pylon's lower spar, and possible separation of the engine from the airplane.

DATES: This AD is effective October 31, 2016.

The Director of the Federal Register approved the incorporation by reference of certain publications listed in this AD as of October 31, 2016.

ADDRESSES: For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-5039.

Examining the AD Docket

You may examine the AD docket on the Internet at http://www.regulations.gov by searching for and locating Docket No. FAA-2016-5039; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to supersede AD 2000-10-18, Amendment 39-11742 (65 FR 34055, May 26, 2000) (“AD 2000-10-18”). AD 2000-10-18 applied to certain Airbus Model A300 series airplanes; Model A300 B4-600, B4-600R, F4-600R series airplanes, and Model A300 C4-605R Variant F airplanes (collectively called Model A300-600 series airplanes); and Model A310 series airplanes. The NPRM published in the Federal Register on April 5, 2016 (81 FR 19505) (“the NPRM”). The NPRM was prompted by a determination that the compliance times for the initial inspection and the repetitive intervals must be reduced to allow timely detection of cracks in the engine pylon's lower spar between ribs 6 and 7. The NPRM proposed to continue to require repetitive inspections to detect cracks in the lower spar of the engine pylons between ribs 6 and 7, and repair if necessary. The NPRM also proposed to reduce the compliance times for the initial inspection and the repetitive intervals. We are issuing this AD to detect and correct fatigue cracking, which could result in reduced structural integrity of the engine pylon's lower spar, and possible separation of the engine from the airplane.

The European Aviation Safety Agency (EASA), which is the Technical Agent for the Member States of the European Union, has issued EASA Airworthiness Directive 2013-0167, dated July 26, 2013 (referred to after this as the Mandatory Continuing Airworthiness Information, or “the MCAI”), to correct an unsafe condition. The MCAI states:

Cracks were found between ribs 6 and 7 in the lower spar of engine pylons on A310, A300 and A300-600 aeroplanes. To prevent crack initiation, a first inspection programme of this area was rendered mandatory by DGAC [Direction Générale de l'Aviation Civile] France AD 93-228-154 (later revised, currently at Revision 3) [which corresponds to certain actions in FAA AD 2000-10-18] for A300 and A300-600 aeroplanes.

At a later date and due to new findings, a specific inspection programme for A310 aeroplanes was rendered mandatory by DGAC France AD 1999-239-287(B) [which corresponds to certain other actions in FAA AD 2000-10-18]. That [French] AD was later superseded by EASA AD 2008-0001, which introduced new thresholds and intervals in the frame of the A310 extended service goal (ESG) exercise.

Since DGAC France AD 1993-228-154(B)R3 and EASA AD 2008-0001 were issued, a fleet survey and updated Fatigue and Damage Tolerance analyses have been performed in order to substantiate the second ESG for A300-600, called ESG2 exercise. The results of these analyses have shown that the inspection threshold and interval must be reduced to allow timely detection of cracks in the engine pylon lower spar between ribs 6 and 7.

For the reasons described above, this new [EASA] AD retains the requirements of DGAC France AD 1993-228-154(B)R3 and EASA AD 2008-0001, which are superseded, and requires accomplishment of the [eddy current or liquid penetrant] inspections [for cracking] and, depending on findings, [related investigative and] corrective actions [repairs], within the new thresholds and intervals specified in Airbus Service Bulletin (SB) A300-54-0073 Revision 03 [dated October 11, 2012] or SB A310-54-2017 Revision 06 [dated October 3, 2012] or SB A300-54-6014 Revision 07 [dated September 5, 2012].

Related investigative actions include eddy current or liquid penetrant inspections for cracking of areas with removed protection. The unsafe condition is cracking in the lower spar of the engine pylons between ribs 6 and 7, which could result in reduced structural integrity of the engine pylon's lower spar, and possible separation of the engine from the airplane. You may examine the MCAI in the AD docket on the Internet at http://www.regulations.gov by searching for and locating it in Docket No. FAA-2016-5039.

Comments

We gave the public the opportunity to participate in developing this AD. The following presents the comments received on the NPRM and the FAA's response to each comment.

Request To Revise Applicability

United Parcel Service (UPS) requested that we remove Model A300 F4-622R airplanes from the proposed applicability. UPS stated that the NPRM would apply to all Model A300 airplanes except those that have Airbus Modification 10599 incorporated in production. UPS explained that Airbus Modification 10559 was embodied on airplane manufacturer serial number (MSN) 723 and all subsequent airplane serial numbers; and that the first Model A300 F4-622R airplane with this modification embodied was MSN 805.

We infer that UPS made a typographical error in citing the Airbus Modification number and intended to reference Airbus Modification 10149. We agree with the commenter's request to remove Model A300 F4-622R airplanes from the applicability. Airbus has verified that all Model A300 F4-622R airplanes are post-Airbus Modification 10149 and that operators do not need to accomplish the inspections specified in Airbus Service Bulletin A300-54-6014, Revision 07, dated September 5, 2012, on those airplanes. As specified in paragraph (c) of this AD, this AD does not affect airplanes on which Airbus Modification 10149 has been incorporated in production. We have removed Model A300 F4-622R airplanes from paragraph (c)(4) of this AD. This change has been coordinated with EASA.

Requests To Revise Paragraphs (g), (h), and (i) of the Proposed AD

UPS requested that we revise paragraphs (g), (h), and (i) of the proposed AD, which identify inspections, corrective actions, and exceptions for both pre-repair and post-repair modification configurations. UPS stated that these paragraphs contain information in long, complex sentences with cross references to other paragraphs in the proposed AD. UPS explained that there is potential for confusion of the ruling requirements and opportunities for compliance errors. UPS provided suggestions for revising certain paragraphs of the proposed AD.

We do not agree with the commenter's request. We recognize that the actions specified in the service information and this AD are complex. However, this AD uses standard terminology that is legally enforceable. UPS's suggested revisions included doing all repairs using a method approved by the FAA, EASA, or Airbus's EASA Design Organization Approval. This suggestion would require operators to obtain a method of compliance, even though the service information does provide instructions for doing certain repairs. Also, UPS suggested we add regulatory material in a note, which is not legally enforceable. We have not changed this AD in this regard.

Request To Define Average Flight Time (AFT) Calculations

UPS requested that we include a paragraph to define how AFT is calculated. UPS explained that paragraph (g) of the proposed AD has repetitive inspection requirements that use an interval defined in the service information that is dependent on airplane AFT methodology, but that the NPRM does not define parameters for how and when the AFT is determined. UPS submitted proposed language for calculating AFTs.

In regards to the AFT definition, we have determined that, for the reasons stated by the commenter, this AD should define AFT calculations. We have added paragraph (j) to this AD accordingly and redesignated subsequent paragraphs.

Request To Approve Alternative Methods of Compliance (AMOCs)

UPS requested that we revise paragraph (k) of the proposed AD to specify that AMOCs approved previously for AD 2000-10-18 are approved as AMOCs for the corresponding provisions of this AD.

We agree with the commenter's request. We have revised paragraph (l) of this AD (referred to as paragraph (k) in the proposed AD) to specify that AMOCs approved previously for AD 2000-10-18 are approved as AMOCs for the corresponding provisions of this AD.

Conclusion

We reviewed the available data, including the comments received, and determined that air safety and the public interest require adopting this AD with the changes described previously and minor editorial changes. We have determined that these changes:

• Are consistent with the intent that was proposed in the NPRM for correcting the unsafe condition; and

• Do not add any additional burden upon the public than was already proposed in the NPRM.

Related Service Information Under 1 CFR Part 51

Airbus has issued the following service bulletins.

• Airbus Service Bulletin A300-54-0073, Revision 03, dated October 11, 2012 (for Model A300 series airplanes).

• Airbus Service Bulletin A300-54-6014, Revision 07, dated September 5, 2012 (for Model A300-600 series airplanes).

• Airbus Service Bulletin A310-54-2017, Revision 06, dated October 3, 2012 (for Model A310 series airplanes).

This service information describes procedures for inspecting for cracking of the engine pylon's lower spar between ribs 6 and 7, and related investigative actions if cracking is found. This service information is reasonably available because the interested parties have access to it through their normal course of business or by the means identified in the ADDRESSES section.

Costs of Compliance

We estimate that this AD affects 156 airplanes of U.S. registry.

We also estimate that it would take about 6 work-hours per product to comply with the basic requirements of this AD. The average labor rate is $85 per work hour. Based on these figures, we estimate the cost of this AD on U.S. operators to be $79,560, or $510 per product.

We have received no definitive data that would enable us to provide cost estimates for the on-condition actions specified in this AD. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2000-10-18, Amendment 39-11742 (65 FR 34055, May 26, 2000), and adding the following new AD:

2016-19-10 Airbus: Amendment 39-18659; Docket No. FAA-2016-5039; Directorate Identifier 2013-NM-148-AD.

(a) Effective Date

This AD is effective October 31, 2016.

(b) Affected ADs

This AD replaces AD 2000-10-18, Amendment 39-11742 (65 FR 34055, May 26, 2000) (“AD 2000-10-18”).

(c) Applicability

This AD applies to the Airbus airplanes identified in paragraphs (c)(1) through (c)(6) of this AD, certificated in any category, except airplanes on which Airbus Modification 10149 has been incorporated in production.

(1) Airbus Model A300 B2-1A, B2-1C, B2K-3C, B2-203, B4-2C, B4-103, and B4-203 airplanes.

(2) Airbus Model A300 B4-601, B4-603, B4-620, and B4-622 airplanes.

(3) Airbus Model A300 B4-605R and B4-622R airplanes.

(4) Airbus Model A300 F4-605R airplanes.

(5) Airbus Model A300 C4-605R Variant F airplanes.

(6) Airbus Model A310-203, -204, -221, -222, -304, -322, -324, and -325 airplanes.

(d) Subject

Air Transport Association (ATA) of America Code 54, Nacelles/pylons.

(e) Reason

This AD was prompted by the determination that the compliance times for the initial inspection and the repetitive intervals must be reduced to allow timely detection of cracks in the engine pylon's lower spar between ribs 6 and 7. We are issuing this AD to detect and correct fatigue cracking, which could result in reduced structural integrity of the engine pylon's lower spar, and possible separation of the engine from the airplane.

(f) Compliance

Comply with this AD within the compliance times specified, unless already done.

(g) Inspections and Corrective Actions

Except as provided by paragraphs (i)(1) and (i)(2) of this AD, at the applicable time specified in paragraph 1.E., “Compliance,” of the applicable Airbus service bulletin specified in paragraph (g)(1), (g)(2), or (g)(3) of this AD: Do an eddy current or liquid penetrant inspection for cracking of the engine pylon's lower spar between ribs 6 and 7; and do all applicable related investigative and corrective actions; in accordance with the Accomplishment Instructions of the applicable Airbus service bulletin specified in paragraph (g)(1), (g)(2), or (g)(3) of this AD, except as required by paragraph (i)(3) of this AD. Do all applicable related investigative and corrective actions before further flight. Repeat the inspection of the engine pylon's lower spar between ribs 6 and 7 thereafter at the applicable time and intervals specified in paragraph 1.E., “Compliance,” of the applicable Airbus service bulletin specified in paragraph (g)(1), (g)(2), or (g)(3) of this AD until a repair or modification specified in the Accomplishment Instructions of the applicable Airbus service bulletin identified in paragraph (g)(1), (g)(2), or (g)(3) of this AD is done.

(1) Airbus Service Bulletin A300-54-0073, Revision 03, dated October 11, 2012 (for Model A300 series airplanes).

Note 1 to paragraph (g)(1) of this AD: Airbus Service Bulletin A300-54-0080, Revision 02, dated July 9, 2002, is an additional source of guidance for accomplishing the modification specified in Airbus Service Bulletin A300-54-0073, Revision 03, dated October 11, 2012.

(2) Airbus Service Bulletin A300-54-6014, Revision 07, dated September 5, 2012 (for Model A300-600 series airplanes).

Note 2 to paragraph (g)(2) of this AD: Airbus Service Bulletin A300-54-6020, Revision 02, dated July 9, 2002, is an additional source of guidance for accomplishing the modification specified in Airbus Service Bulletin A300-54-6014, Revision 07, dated September 5, 2012.

(3) Airbus Service Bulletin A310-54-2017, Revision 06, dated October 3, 2012 (for Model A310 series airplanes).

Note 3 to paragraph (g)(3) of this AD: Airbus Service Bulletin A310-54-2023, Revision 03, dated July 9, 2002, is an additional source of guidance for accomplishing the modification specified in Airbus Service Bulletin A310-54-2017, Revision 06, dated October 3, 2012.

(h) Post-Repair/Modification and Corrective Actions

For airplanes on which any repair or modification specified in the Accomplishment Instructions of the applicable Airbus service bulletin identified in paragraph (g)(1), (g)(2), or (g)(3) of this AD is done: Except as provided by paragraphs (i)(1) and (i)(2) of this AD, at the applicable time specified in paragraph 1.E., “Compliance,” of the applicable Airbus service bulletin specified in paragraph (g)(1), (g)(2), or (g)(3) of this AD: Do an eddy current or liquid penetrant inspection for cracking of the engine pylon's lower spar between ribs 6 and 7; and do all applicable related investigative and corrective actions; in accordance with the Accomplishment Instructions of the applicable Airbus service bulletin specified in paragraph (g)(1), (g)(2), or (g)(3) of this AD, except as required by paragraph (i)(3) of this AD. Do all applicable related investigative and corrective actions before further flight. Repeat the inspection of the engine pylon's lower spar between ribs 6 and 7 thereafter at the applicable time and intervals specified in paragraph 1.E., “Compliance,” of the applicable Airbus service bulletin specified in paragraph (g)(1), (g)(2), or (g)(3) of this AD.

(i) Exceptions to Service Information

(1) Where a “Threshold” is specified in paragraph 1.E., “Compliance,” of the service information specified in paragraphs (g)(1), (g)(2), and (g)(3) of this AD, the “FC” and “FH” compliance times are total flight cycle and total flight hour compliance times, except that if a repair or service bulletin identified in paragraph 1.E., “Compliance,” of the service bulletins specified in paragraphs (g)(1), (g)(2), and (g)(3) of this AD has been done, the “FC” and “FH” compliance times are flight cycle and flight hour compliance times since the identified repair or service bulletin was done.

(2) Except as provided by paragraphs (i)(2)(i) and (i)(2)(ii) of this AD: For the “Grace period” specified in paragraph 1.E., “Compliance,” of the service information specified in paragraphs (g)(1), (g)(2), and (g)(3) of this AD, operators must comply with the actions specified in paragraphs (g) and (h) of this AD, as applicable, at the later of the applicable times in the “Threshold” and “Grace Period” times specified in paragraph 1.E., “Compliance,” of the applicable service information, except the language “for aircraft that have already exceeded or are close to exceed[ing] the threshold or scheduled interval” does not apply.

(i) Where Airbus Service Bulletin A300-54-0073, Revision 03, dated October 11, 2012; and Airbus Service Bulletin A310-54-2017, Revision 06, dated October 3, 2012; specify a compliance time “. . . after receipt of this Inspection Service Bulletin without exceeding the requirements of previous issue of this ISB,” this AD requires compliance within the specified compliance time after the effective date of this AD.

(ii) Where Airbus Service Bulletin A300-54-6014, Revision 07, dated September 5, 2012, specifies a compliance time “. . . after receipt of this Inspection Service Bulletin without exceeding the requirements of previous issue of this SB,” this AD requires compliance within the specified compliance time after the effective date of this AD.

(3) If any crack is found during any inspection required by this AD and the applicable Airbus service bulletin specified in paragraph (g)(1), (g)(2), or (g)(3) of this AD specifies to contact Airbus: Before further flight, repair the crack using a method approved by the Manager, International Branch, ANM-116, Transport Airplane Directorate, FAA; or the European Aviation Safety Agency (EASA); or Airbus's EASA Design Organization Approval (DOA).

(j) Calculating Average Flight Time (AFT)

For the purpose of paragraphs (g) and (h) of this AD, the AFT must be established as specified in paragraphs (j)(1), (j)(2), and (j)(3) of this AD.

(1) For the initial inspection, the average flight time is the total accumulated flight hours, counted from take-off to touch-down, divided by the total accumulated flight cycles at the effective date of this AD.

(2) For the first repeated inspection interval, the average flight time is the total accumulated flight hours divided by the total accumulated flight cycles at the time of the inspection threshold.

(3) For all inspection intervals onwards, the average flight time is the flight hours divided by the flight cycles accumulated between the last two inspections.

(k) Credit for Previous Actions

This paragraph provides credit for actions required by paragraphs (g) and (h) of this AD, if those actions were performed before the effective date of this AD using an applicable service bulletin specified in paragraphs (k)(1) through (k)(10) of this AD.

(1) Airbus Service Bulletin A300-54-0073, Revision 1, dated March 28, 1994 (for Model A300 series airplanes), which was incorporated by reference in AD 96-11-05, Amendment 39-9630 (61 FR 26091, May 24, 1996) (“AD 96-11-05”).

(2) Airbus Service Bulletin A300-54-0073, Revision 02, dated July 9, 2002 (for Model A300 series airplanes), which is not incorporated by reference in this AD.

(3) Airbus Service Bulletin A300-54-6014, Revision 1, dated March 28, 1994 (for Model A300-600 series airplanes), which was incorporated by reference in AD 96-11-05.

(4) Airbus Service Bulletin A300-54-6014, Revision 03, dated June 4, 1998 (for Model A300-600 series airplanes), which is not incorporated by reference in this AD.

(5) Airbus Service Bulletin A300-54-6014, Revision 04, dated March 9, 2002 (for Model A300-600 series airplanes), which is not incorporated by reference in this AD.

(6) Airbus Service Bulletin A300-54-6014, Revision 05, dated September 1, 2011 (for Model A300-600 series airplanes), which is not incorporated by reference in this AD.

(7) Airbus Service Bulletin A300-54-6014, Revision 06, dated May 24, 2012 (for Model A300-600 series airplanes), which is not incorporated by reference in this AD.

(8) Airbus Service Bulletin A310-54-2017, Revision 03, dated June 11, 1999 (for Model A310 series airplanes), which was incorporated by reference in AD 2000-10-18.

(9) Airbus Service Bulletin A310-54-2017, Revision 04, dated July 9, 2002 (for Model A310 series airplanes), which is not incorporated by reference in this AD.

(10) Airbus Service Bulletin A310-54-2017, Revision 05, dated November 16, 2007 (for Model A310 series airplanes), which is not incorporated by reference in this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2000-10-18 are approved as AMOCs for the corresponding provisions of this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(m) Related Information

(1) Refer to Mandatory Continuing Airworthiness Information (MCAI) EASA Airworthiness Directive 2013-0167, dated July 26, 2013, for related information. This MCAI may be found in the AD docket on the Internet at http://www.regulations.gov by searching for and locating Docket No. FAA-2016-5039.

(2) Service information identified in this AD that is not incorporated by reference is available at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A300-54-0073, Revision 03, dated October 11, 2012.

(ii) Airbus Service Bulletin A300-54-6014, Revision 07, dated September 5, 2012.

(iii) Airbus Service Bulletin A310-54-2017, Revision 06, dated October 3, 2012.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 12, 2016.
Michael Kaszycki,
Acting Manager, Transport Airplane Directorate, Aircraft Certification Service.

[FR Doc. 2016-22460 Filed 9-23-16; 8:45 am]

BILLING CODE 4910-13-P